DEPARTMENT OF LABOR

Employment and Training Administration

[TA-W-53,735]

Phillips Plastics Corporation Multi Shot Facility, Eau Claire, WI; Notice of Affirmative Determination Regarding Application for Reconsideration

By letter of February 6, 2004, a petitioner requested administrative reconsideration of the Department of Labor's Notice of Negative Determination Regarding Eligibility to Apply for Worker Adjustment Assistance, applicable to workers of the subject firm. The determination was signed on January 16, 2004. The Notice of determination was published in the Federal Register on February 6, 2004 (69 FR 5866).

The Department reviewed the request and has determined that the petitioner has provided additional information. Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC, this 5th day of March, 2004.
Elliott S. Kushner,
Certifying Officer, Division of Trade Adjustment Assistance.

[FR Doc. E4-593 Filed 3-15-04; 8:45 am]

BILLING CODE 4510-13-P